DEPARTMENT OF AGRICULTURE

National Agricultural Statistics Service

Notice of Intent To Request To Conduct a New Information Collection

AGENCY: National Agricultural Statistics Service, USDA.

ACTION: Notice and request for comments.

SUMMARY: In accordance with the Paperwork Reduction Act of 1995, this notice announces the intention of the National Agricultural Statistics Service (NASS) to seek approval to conduct a new information collection to gather data on production practices and chemical use. These surveys are funded by State Departments of Agriculture, land grant universities, and other organizations with which NASS has a Memorandum of Understanding (MOU). These surveys were previously included in the ARMS (OMB Control Number 0535-0218) docket and are being moved into a standalone docket for ease of processing.

DATES: Comments on this notice must be received by February 1, 2022 to be assured of consideration.

ADDRESSES: You may submit comments, identified by docket number 0535-NEW, by any of the following methods:

• Email: ombofficer@nass.usda.gov. Include docket number above in the subject line of the message.

• eFax: (855) 838-6382.

• Mail: Mail any paper, disk, or CD-ROM submissions to: David Hancock, NASS Clearance Officer, U.S. Department of Agriculture, Room 5336 South Building, 1400 Independence Avenue SW, Washington, DC 20250-2024.

• Hand Delivery/Courier: Hand deliver to: David Hancock, NASS Clearance Officer, U.S. Department of Agriculture, Room 5336 South Building, 1400 Independence Avenue SW, Washington, DC 20250-2024.

FOR FURTHER INFORMATION CONTACT: Kevin L. Barnes, Associate Administrator, National Agricultural Statistics Service, U.S. Department of Agriculture, (202) 720-4333. Copies of this information collection and related instructions can be obtained without charge from David Hancock, NASS—OMB Clearance Officer, at (202) 690-2388 or at ombofficer@nass.usda.gov.

SUPPLEMENTARY INFORMATION: Title: Cooperator Funded Chemical Use Surveys.

OMB Control Number: 0535-NEW.

Type of Request: Intent to seek approval to create a new information collection for a period of three years.

Abstract: The chemical use data collection activities in this clearance request would be conducted through cooperative agreements with State Departments of Agriculture, land-grant universities, or other organizations with which NASS has a Memorandum of Understanding (MOU). Previously, these collections were included in the Agricultural Resource Management and Chemical Use Surveys Information Collection Request (OMB Control Number 0535-0218). These cooperator funded chemical use surveys are being separated out to allow flexibility for survey changes and possible new surveys without affecting the surveys funded through USDA's Congressional appropriation. The surveys in the Information Collection Request allow flexibility for the cooperators to best address current trends in the farming industry within States.

The Field Crop Production Practice and Chemical Use Surveys in this request will be conducted on an established schedule depending on funding from the cooperators:

• Maryland Department of Agriculture,

• Minnesota Department of Agriculture,

• Mississippi State University Extension Service,

• Illinois Department of Agriculture, and

• Other State Department of Agriculture, land grant university, or other organization with a cooperative agreement with NASS.

Authority: These data will be collected under the authority of 7 U.S.C. 2204(a). Individually identifiable data collected under this authority are governed by section 1770 of the Food Security Act of 1985, 7 U.S.C. 2276, which requires USDA to afford strict confidentiality to non-aggregated data provided by respondents. This Notice is submitted in accordance with the Paperwork Reduction Act of 1995 (at 44 U.S.C. 3501, et seq.) and Office of Management and Budget regulations at 5 CFR part 1320.

All NASS employees and NASS contractors must also fully comply with all provisions of the Confidential Information Protection and Statistical Efficiency Act (CIPSEA) of 2018, Title III of Public Law 115-435, codified in 44 U.S.C. Ch. 35. CIPSEA supports NASS's pledge of confidentiality to all respondents and facilitates the agency's efforts to reduce burden by supporting statistical activities of collaborative agencies through designation of NASS agents, subject to the limitations and penalties described in CIPSEA.

Estimate of Burden: Public reporting burden for this collection of information is estimated to average approximately 30 minutes per survey.

Respondents: Farmers, ranchers, farm managers, farm contractors, and farm households.

Estimated Number of Respondents: Approximately 35,000 respondents will be sampled each year for the Cooperator Funded Chemical Use Surveys.

Estimated Total Annual Burden on Respondents: Approximately 15,000 hours per year.

Comments: Comments are invited on: (a) Whether the proposed collection of information is necessary for the proper performance of the functions of the agency, including whether the information will have practical utility; (b) the accuracy of the agency's estimate of the burden of the proposed collection of information, including the validity of the methodology and assumptions used; (c) ways to enhance the quality, utility, and clarity of the information to be collected; and (d) ways to minimize the burden of the collection of information on those who are to respond, through the use of appropriate automated, electronic, mechanical, technological or other forms of information technology collection methods.

All responses to this notice will become a matter of public record and be summarized in the request for OMB approval.

Signed at Washington, DC, November 10, 2021.
Kevin L. Barnes,
Associate Administrator.

[FR Doc. 2021-26277 Filed 12-2-21; 8:45 am]

BILLING CODE 3410-20-P